DEPARTMENT OF ENERGY

Federal Energy Regulatory Commission

Combined Notice of Filings #1

Take notice that the Commission received the following electric rate filings:

Docket Numbers: ER18-594-000.

Applicants: Southwest Power Pool, Inc.

Description: § 205(d) Rate Filing: 3371 KAMO Electric and GRDA Interconnection Agreement to be effective 1/1/2018.

Filed Date: 1/3/18.

Accession Number: 20180103-5141.

Comments Due: 5 p.m. ET 1/24/18.

Docket Numbers: ER18-595-000.

Applicants: Aurora Generation, LLC, Rockford Power, LLC, Rockford Power II, LLC.

Description: Request for Limited Waiver of Aurora Generation, LLC, et al.

Filed Date: 1/3/18.

Accession Number: 20180103-5189.

Comments Due: 5 p.m. ET 1/17/18.

Docket Numbers: ER18-596-000.

Applicants: Springdale Energy, LLC, Helix Ironwood, LLC.

Description: Request for Limited Waiver of Springdale Energy, LLC and Helix Ironwood, LLC.

Filed Date: 1/3/18.

Accession Number: 20180103-5192.

Comments Due: 5 p.m. ET 1/17/18.

Take notice that the Commission received the following qualifying facility filings:

Docket Numbers: QF18-454-000.

Applicants: Otsego Paper Inc.

Description: Form 556 of Otsego Paper Inc. under QF18-454.

Filed Date: 1/3/18.

Accession Number: 20180103-5179.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2018.
Nathaniel J. Davis, Sr.,
Deputy Secretary.

[FR Doc. 2018-00278 Filed 1-9-18; 8:45 am]

BILLING CODE 6717-01-P